DEPARTMENT OF HEALTH AND HUMAN SERVICES

Administration for Children and Families

Office of Planning, Research and Evaluation; Funding Opportunity Title: Child Development Research Fellowship Program

Announcement Type: Initial.

Funding Opportunity Number: HHS-2004-ACF-OPRE-PH-0005.

CFDA Number: 93-595.

Due Date for Applications: August 30, 2004.

Due Date for Letters of Intent: N/A.

I. Funding Opportunity Description

A. Purpose

The purpose of this priority area is to announce the availability of funds for a cooperative agreement to sponsor a Child Development Research Fellowship that will allow child development professionals from the academic community the opportunity to actively participate in policy-relevant research activities associated with ACF programs. The goal of the fellowship program is to expose researchers to a policy environment and thereby to expand and enrich the field's capacity for policy-relevant research. Fellows will be able to work on-site in OPRE or an ACF-related office on research related to ACF programs on a full-time basis for a period of up to two years (renewable for a third year at the discretion of the sponsoring organization and ACF). The program is intended to stimulate the active exchange of child development research and evaluation information directly relevant to ACF programs and to inform the process of developing long-term research and evaluation agendas across the various ACF programs and in the research community at large. The cooperative agreement will require active partnership between the sponsoring organization and the Office of Planning, Research and Evaluation (OPRE).

B. Background

Section 1110 (42 U.S.C. 1310) (a) (1) of the Social Security Act authorizes funding for conducting research related to programs carried on or assisted through the Social Security Act, or related programs. The Office of Planning, Research and Evaluation engages in a number of research and evaluation efforts related to low income children and families, including research with Head Start, Child Care, Child Welfare, and at-risk youth populations as well as research on the impact of welfare policies on families and children. Such research efforts typically are large in scale, and are interdisciplinary in their design, implementation, and analysis. As such, they benefit from expertise provided by multidisciplinary teams.

For more than a decade, Child Development Fellowships have been offered through ACF under the sponsorship of the Society for Research in Child Development. For the past five years, these fellowships have been supported through a cooperative agreement between ACF and SRCD. Child Development Fellows have contributed substantially to research efforts related to child development and programmatic outcomes for children and families in Head Start, Child Care, and Child Welfare programs.

C. Priorities

The Fellowships have resulted in a range of activities that have been of considerable benefit to the Fellows, ACF, and to the field of early childhood development and education. The successful applicant will work with ACF to ensure that the kinds of activities and opportunities that have proven beneficial in the past continue to be available. These activities have included active participation in the technical conceptualization, planning, implementing and coordinating of major research and evaluation activities across ACF programs; identifying opportunities for increased program effectiveness through coordination of research and evaluation activities with other Departments and agencies; maintaining strong ties with both academic and practitioner communities; and actively contributing to the theoretical and empirical knowledge base within the areas of child development and social services programs, among other activities. The Fellows have benefited not only from the direct experience of working in a policy environment, but also through planned activities with the sponsoring organization for Fellows from other agencies and Congressional Offices (including opportunities to attend policy briefings and Congressional hearings), and through exposure to the scientific activities and resources of the sponsoring organization.

It is anticipated that these types of activities would be continued under this announcement. The applicant should have standing in the child development research community that provides for visibility among potential candidates for the fellowships and that assures them of an experience that will enhance their professional development. Child Development Fellows at ACF historically have had access to a range of conferences, workshops and lectures designed for research/policy fellows, such as activities provided under the aegis of the American Association for the Advancement of Science. The applicant should have strong linkages with the policy and child development research communities upon which they can draw to provide appropriate experiences for the candidates, apart from their agency work activities.

The successful applicants will provide evidence of successful implementation of fellowship programs, that the organization has access to research professionals across a variety of disciplines related to child development, and that the organization has a proven record of being able to attract a pool of highly qualified applicants. The sponsoring organization will be expected to recruit a pool of highly qualified, doctoral-level candidates from which a final selection will be made by ACF, depending on the opportunities, needs, and resources of the agency.

Fellows will be provided with office space to work on-site either in OPRE or in an agency conducting ACF-related research, such as the Child Care Bureau, the Head Start Bureau or the Office of the Assistant Secretary for Planning and Evaluation within HHS. It is expected that the number of Fellows placed will vary from year to year, depending on the opportunities, needs and resources of the agency and the match between agency activities and the qualifications of available candidates; as many as six Fellows may be placed in a single year. The length of the placement will be for one year, with the option of a second year at the discretion of the agency. A third year may be possible in some circumstances; extension of a Fellowship for a third year shall be at the discretion of the sponsoring organization.

Federal staff expect to maintain substantial involvement in the implementation of the Fellowship program, as described below in Section II, Description of Federal Substantial Involvement with Cooperative Agreement.

II. Award Information

Funding Instrument Type: Cooperative Agreement.

Description of Federal Substantial Involvement with Cooperative Agreement: Federal staff will (1) select the Fellow or Fellows to be matched to the agency, from a pool of potential Fellows selected by the sponsoring organization; (2) provide work space including telephone and computer access; (3) take primary responsibility for project selection and for mentoring and supervision of the Fellow(s). Federal staff will work with the Fellow(s) and the sponsoring organization on developing goal statements for the Fellow(s) and on the evaluation of the Fellowships, and also will work with the sponsoring organization to develop criteria for the Fellowships and on advertising and promotional materials. The sponsoring organization will (1) recruit and screen candidates for Fellowships, and develop an initial pool of candidates; (2) provide exposure to additional scientific and professional development activities and other programming outside the agency; (3) provide group activities for Fellows to benefit from the experiences of one another; and (4) provide administrative support for the Fellowship program, including payment of stipends and reimbursements for travel and benefits, as well as support for individual Fellows' work activities.

Anticipated Total Program Funding: $3,000,000.

Anticipated Number of Awards: ACF anticipates funding one project for a period of up to five years.

Ceiling on Amount of Individual Awards: $600,000 per budget period, contingent on the number of Fellows placed. The award amount is for planning purposes only.

Floor of Individual Award Amounts: none.

Average Anticipated Award Amount: $500,000 per budget period.

Project Periods for Awards: Five years. Initial awards will be for the first one-year budget period. Requests for the second through fifth years of funding within the project period should be identified in the current application (on SF-424A), but such requests will be considered in subsequent years on a noncompetitive basis, subject to the applicant's eligibility status, the availability of funds, satisfactory progress of the grantee, and a determination that continued funding would be in the best interest of the Government.

III. Eligibility Information

Eligible Applicants:

County governments, City or township governments, Special district governments, State controlled institutions of higher education, Native American tribal governments (Federally recognized), Non-profit organizations having a 501(c) (3) status with the Internal Revenue Code, other than institutions of higher education, Non-profit organizations that do not have 501 (c) (3) status with the Internal Revenue Code, other than institutions of higher education, Private institutions of higher education, For-profit organizations other than small businesses, Small businesses, and faith-based organizations.

Additional Information on Eligibility:

Non-profit organizations applying for funding are required to submit proof of their non-profit status.

Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Cost Sharing or Matching: Yes. Grantees must provide at least 1 percent of the total approved cost of the project. The total approved cost of the project is the sum of the ACF share and the non-federal share. The non-federal share may be met by cash or in-kind contributions, although applicants are encouraged to meet their match requirements through cash contributions. For example, in order to meet the match requirements, a project with a total approved cost of $606,060, requesting $600,000 in ACF funds, must provide a non-federal share of at least $6,060 (1% of total approved project cost of $606,060). Grantees will be held accountable for commitments of non-federal resources even if over the amount of the required match. Failure to provide the amount will result in disallowance of Federal funds.

The following example shows how to calculate the required 1% match amount for a $100,000 grant:

$100,000 (Federal share) divided by .99 (100%-1%) equals $101010 (total project cost including match) minus $100,000 (federal share) equals $1,010 (required 1% match)

Applications that fail to include the required amount of cost-sharing will be considered non-responsive and will not be eligible for funding under this announcement.

Other:

All Applicants must have Dun & Bradstreet Number. On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applications that fail to follow the required format described in section IV.2 Application Requirements will be considered non-responsive and will not be eligible for funding under this announcement.

Applications that exceed the $600,000 (per budget period) ceiling will be considered non-responsive and will not be eligible for funding under this announcement.

IV. Application and Submission Information

1. Address to Request Application Package

ACYF Operations Center/OPRE Grant Review Team/Xtria, LLC c/o Dixon Group, Inc., 118 Q Street, NE., Washington, DC 20002-2132, Attention: Head Start Graduate Student Research Partnership Development Grants, 1 (877) 663-0250, E-mail opre@xtria.com.

2. Content and Form of Application Submission

An original and two copies of the complete application are required. The original and 2 copies must include all required forms, certifications, assurances, and appendices, be signed by an authorized representative, have original signatures, and be submitted unbound. Applicants have the option of omitting from the application copies (not the original) specific salary rates or amounts for individuals specified in the application budget.

You may submit your application to us either in electronic or paper format. To submit an application electronically, please use the http://www.Grants.gov apply site. If you use Grants.Gov you will be able to download a copy of the application package, complete it off-line, and then upload and submit the application via the Grants.gov site. You may not e-mail an electronic copy of a grant application to us.

Please note the following if you plan to submit your application electronically via Grants.Gov.:

• Electronic submission is voluntary

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application form Grants. Gov.

• We may request that you provide original signatures on forms at a later date.

• You may access the electronic application for this program on http://www.Grants.gov.

• You must search for the downloadable application package by the CFDA number.

Application Requirements

The application must be double-spaced and single-sided on 8½ x 11 plain white paper, with 1″ margins on all sides. The application must use Times New Roman 12 point font or Arial 12 point font. All pages of the application (including appendices, resumes, charts, references/footnotes, tables, maps and exhibits) must be sequentially numbered. Applications that do not follow the aforementioned stated criteria will be considered non-responsive and will not be eligible for funding under this announcement.

The Project Narrative including the Table of Contents must not exceed 50 pages. Pages submitted beyond the first 50 in the application project narrative section will be removed prior to panel review. The Narrative Budget Justification, Standard Forms for Assurances, Certifications, Disclosures and appendices and the cost-share letters are not included in this limitation, yet applicants are urged to be concise.

There is a 5-page limit to any additional supporting documentation, including letters of support. Applicants are requested not to send pamphlets, brochures, or other printed material along with their applications as these pose copying difficulties. These materials, if submitted, will not be included in the review process. In addition, applicants must not submit any additional letters of endorsement beyond any that may be required.

Applicants must demonstrate proof of non-profit status and this proof must be included in their applications. Applicants must include any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Forms and Certifications:

The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the web at: http://www.acf.hhs.gov/programs/ofs/forms.htm.

3. Submission Dates and Times

The closing time and date for receipt of applications is 4:30 p.m. (Eastern Time Zone) on August 30, 2004. Mailed or hand carried applications received after 4:30 p.m. on the closing date will be classified as late.

Deadline: Mailed applications shall be considered as meeting an announced deadline if they are received on or before the deadline time and date at the following address:

ACYF Operations Center/OPRE Grant Review Team/ Xtria, LLC c/o Dixon Group, Inc., 118 Q Street, NE., Washington, DC 20002-2132, Attention: Head Start Graduate Student Research Partnership Development Grants, 1 (877) 663-0250, E-mail opre@xtria.com.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the following address:

ACYF Operations Center/OPRE Grant Review Team/ Xtria, LLC c/o Dixon Group, Inc., 118 Q Street, NE., Washington, DC 20002-2132, Attention: Head Start Graduate Student Research Partnership Development Grants, 1 (877) 663-0250, E-mail opre@xtria.com.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Narrative | Described in Section V of this Announcement | Format described in Section V | By application due date
SF 424, SF 424A, and SF 424B | Per required form | May be found at http://www.acf.hhs.gov/programs/ofs/forms.htm | By application due date
Certification regarding Lobbying and associated Disclosure of Lobbying Activities (SF LLL) | Per required form | May be found at http://www.acf.hhs.gov/programs/ofs/forms.htm | By application due date
Environmental Tobacco Smoke Certification | Per required form | May be found at http://www.acf.hhs.gov/programs/ofs/forms.htm | By application due date

Additional Forms:

Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, and Wyoming. Applicants from these jurisdictions need not take action.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

A list of the Single Points of Contact for each State and Territory is included with the application materials for this announcement.

5. Funding Restrictions

Number of Projects in Application

Each application may include only one proposed project.

Applicants are cautioned that the ceiling for individual awards is $600,000 per project period. Applications exceeding the $600,000 threshold will be considered non-responsive and will not be eligible for funding under this announcement.

Federal funds received as a result of this announcement cannot be paid as profit to grantees or sub-grantees, i.e., any amount in excess of allowable direct and indirect costs of the recipient (45 CFR 74.81).

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

Pre-award costs are not allowable charges to the award.

6. Other Submission Requirements

Submission by Mail: Mailed applications shall be considered as meeting an announced deadline if they are received on or before 4:30 p.m., Eastern Standard Time on the closing date at the address below:

ACYF Operations Center/OPRE Grant Review Team/ Xtria, LLC c/o Dixon Group, Inc., 118 Q Street, NE., Washington, DC 20002-2132, Attention: Head Start Graduate Student Research Partnership Development Grants, 1 (877) 663-0250, E-mail opre@xtria.com.

Applicants are responsible for mailing applications well in advance, when using all mail services, to ensure that the applications are received on or before the deadline time and date.

Hand Delivery: Applications hand carried by applicants, applicant couriers, other representatives of the applicant, or by overnight/express mail couriers shall be considered as meeting an announced deadline if they are received on or before 4:30 p.m., EST on the deadline date. The following address must appear on the envelope/package containing the application with the note “Attention: Child Development Fellowship Grants.” Applications that are hand delivered will be accepted between the hours of 8 a.m. to 4:30 p.m., Monday through Friday. Applications may be delivered to:

ACYF Operations Center/OPRE Grant Review Team/Xtria, LLC c/o Dixon Group, Inc., 118 Q Street, NE., Washington, DC 20002-2132, Attention: Head Start Graduate Student Research Partnership Development Grants, 1 (877) 663-0250, E-mail opre@xtria.com.

Applicants are cautioned that express/overnight mail services do not always deliver as agreed.

ACF cannot accommodate transmission of applications by fax.

Electronic Submission: Please see section IV. 2 Content and Form of Application Submission, for guidelines and requirements when submitting applications electronically.

V. Application Review Information

1. Criteria

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007. An agency may not conduct or sponsor, and a person is not required to respond to, a collection of information unless it displays a currently valid OMB control number.

The following are instructions and guidelines on how to prepare the “project summary/abstract” and “Full Project Description” sections of the application. Under the evaluation criteria section, note that each criterion is preceded by the generic evaluation requirement under the ACF Uniform Project Description (UPD).

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Results or Benefits Expected

Identify the results and benefits to be derived. For example, describe how the intermediary's assistance to faith-based and community organizations will increase their effectiveness, enhance their ability to provide social services, diversify their funding sources, and create collaborations to better serve those most in need.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criterion I: Organizational Profiles (Maximum: 50 points)

The extent to which the organization presents a proven track record in successfully administering a research fellowship program, including child development research fellowships.

The extent to which the organization demonstrates the capacity to access a multidisciplinary group of doctoral level researchers who are potential applicants.

The extent to which the organization demonstrates a history of relationships with scientific and policy organizations through which Fellows can access workshops, lectures, conferences, and other professional development activities consistent with a Child Development Research Fellowship experience.

It is expected that the principal investigator will be a doctoral level individual who has a demonstrated record of child development research. Applications will be evaluated on the extent to which they include a listing of key positions required to carry out the project, the individuals proposed to fill the positions, and a detailed description of the kind of work they will perform. Applications will also be evaluated on the extent to which evidence is provided demonstrating the staff's skill, knowledge, and experience in carrying out their assigned activities such as evidence that demonstrates not only staff's good technical skills, but also a clear record of working with the child development research community and supervising child development researchers.

Evaluation Criterion II: Approach (Maximum: 20 points)

The extent to which the applicant uses applicable methods and the proposed activities are logical, reasonable, well-conceived, and linked to the results and benefits expected. The extent to which the applicant demonstrates a clear and feasible strategy for identifying criteria for fellowships, accessing groups of potential candidates, recruiting and interviewing candidates, providing professional development opportunities, and administering the program.

Evaluation Criterion III: Objectives and Need for Assistance (Maximum: 10 points)

The extent to which the objectives of the proposed project are clearly stated and shown to address the issues related to administering a Child Development Research Fellowship Program.

The extent to which the Fellows selected for the program will receive professional development opportunities consistent with the agency's research needs as well as the Fellows' professional development goals.

Evaluation Criterion IV: Results or Benefits Expected (Maximum: 10 points)

The extent to which the specific goals of the project and the results and benefits proposed by the applicant are reasonable and likely, quantified, clearly linked to and supported by the proposed approach, and supportive of the stated goals under this announcement.

Evaluation Criterion V: Budget and Budget Justification (Maximum: 10 points)

Applications will be evaluated based on the extent to which they include a budget that is clear, easy to understand, and provides a detailed justification for the amount requested. Applicants should refer to the budget information presented in the Standard Forms 424 and 424A and to the budget justification instructions in section V. General Instructions for the Uniform Project Description.

2. Review and Selection Process

Applications received by the due date will be reviewed and scored competitively. Experts in the field, either from within or from outside the Federal government, will use the evaluation criteria listed in Part V of this announcement to review and score the applications. The results of this review will be a primary factor in making funding decisions. ACF may also solicit comments from Regional Office staff and other Federal agencies. ACF may consider a variety of factors in addition to the review criteria identified above, including geographic diversity/coverage and types of applicant organizations, in order to ensure that the interests of the Federal Government are met in making the final selections. Please note that applicants that do not comply with the requirements in the section titled “Eligible Applicants” will not be included in the review process.

Approved but Unfunded Applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

Applicants have the option of omitting from the application copies (not the original) specific salary rates or amounts for individuals specified in the application budget.

VI. Award Administration Information

1. Award Notices

Successful applicants will be notified through the issuance of a Financial Assistance Award notice that sets forth the amount of funds granted, the terms and conditions of the grant award, the effective date of the award, the budget period for which initial support is given, and the total project period for which support is provided. The Financial Assistance Award will be signed by the Grants Officer and transmitted via postal mail. Organizations whose applications will not be funded will be notified in writing by ACF.

2. Administrative and National Policy Requirements

45 CFR Parts 74 and 92.

3. Reporting Requirements

Programmatic Reports: Semi-annually and a final report is due 90 days after the end of the grant period.

Financial Reports: (SF-269 long form) Semi-annually and a final report is due 90 days after the end of the grant period.

Original reports and one copy should be mailed to: Administration for Children and Families, Office of Grants Management, Division of Discretionary Grants, 370 L'Enfant Promenade, SW., Washington, DC 20447.

VII. Agency Contacts

1. Program Office Contact:

ACYF Operations Center/OPRE Grant Review Team/Xtria, LLC c/o Dixon Group, Inc., 118 Q Street, NE., Washington, DC 20002-2132, Attention: Head Start Graduate Student Research Partnership Development Grants, 1 (877) 663-0250, E-mail opre@xtria.com.

2. Grants Management Office Contact:

Sylvia Johnson, ACF Division of Discretionary Grants, 370 L'Enfant Promenade, Washington, DC 20447, 1 (202) 401-4524, E-mail: sjohnson@acf.hhs.gov.

VIII. Other Information

Applicants under this announcement are advised that subsequent sale and distribution of products developed under this grant will be subject to the Code of Federal Regulations, Title 45, part 74.

The use of secondary data analysis in order to refine and validate newly-developed measures in relation to already standardized measures is strongly advised.

Definitions:

Budget Period—for the purposes of this announcement, budget period means the 12-month period of time for which ACF funds are made available to a particular grantee (e.g., beginning on September 16, 2004, and ending on September 15, 2005).

Project Period—for the purposes of this announcement, the project period is the same length as the budget period.

Dated: July 22, 2004.
Naomi Goldstein,
Acting Director, Office of Planning, Research, and Evaluation.

[FR Doc. 04-17339 Filed 7-29-04; 8:45 am]

BILLING CODE 4184-01-P